INTERNATIONAL TRADE COMMISSION

[Investigation No. 337-TA-686]

In the Matter of Certain Bulk Welding Wire Containers and Components Thereof and Welding Wire; Notice of Commission Determination To Review-In-Part a Final Initial Determination and To Affirm the Finding of No Violation of Section 337; Termination of the Investigation

AGENCY: U.S. International Trade Commission.

ACTION: Notice.

SUMMARY: Notice is hereby given that the U.S. International Trade Commission has determined to review a portion of the final initial determination (“ID”) issued by the presiding administrative law judge (“ALJ”) on July 29, 2010 finding no violation of section 337 in the above-captioned investigation, but to affirm his finding of no violation.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 8, 2009, based on a complaint filed by the Lincoln Electric Company of Cleveland, Ohio and Lincoln Global, Inc. of City of Industry, California (collectively, “Lincoln”). 74 FR 46223 (Sept. 8, 2009). The complaint alleged violations of Section 337 in the importation into the United States, the sale for importation, or the sale within the United States after importation of certain bulk welding wire containers, components thereof, and welding wire by reason of infringement of certain claims of United States Patent Nos. 6,260,781; 6,648,141; 6,708,864 (“the `864 patent”); 6,913,145; 7,309,038; 7,398,881; and 7,410,111. ld. The amended complaint named the following respondents: Atlantic China Welding Consumables, Inc. of Sichuan, China (“Atlantic”); The ESAB Group, Inc. of Florence, South Carolina (“ESAB”); Hyundai Welding Co., Ltd. of Seoul, Korea (“Hyundai”); Kiswel Co., Ltd. of Seoul, Korea (“Kiswel”); and Sidergas SpA of Ambrogio (Verona), Italy (“Sidergas”). 74 FR 61706 (Nov. 25, 2009). Respondents Hyundai, Kiswel, and Atlantic were subsequently terminated from the investigation, leaving ESAB and Sidergas as the only respondents remaining. In addition, all but the `864 patent were terminated from this investigation.

On July 29, 2010, the ALJ issued a final ID finding no violation of Section 337 by respondents ESAB or Sidergas. The ALJ concluded that none of the accused ESAB and Sidergas products infringe asserted claims 3, 4, 6, 12, or 13 of the `864 patent. The ALJ further concluded that claim 3 of the `864 patent is invalid under 35 U.S.C. 102(b) and that claims 4, 6, 12, and 13 of the `864 patent are valid and enforceable. The ALJ did find that complainant satisfied both the technical and the economic prong of the domestic industry requirement with respect to the `864 patent. On August 11, 2010, Lincoln filed a petition for review. On the same day, respondents ESAB and Sidergas filed a consolidated petition for review. The IA did not file a petition for review.

Having examined the record of this investigation, including the ALJ's final ID and the submissions of the parties, the Commission has determined to affirm the ALJ's determination that there is no violation of Section 337. Specifically, the Commission has determined to affirm the ALJ's determination that there is no literal infringement of the asserted claims. The Commission has also determined to affirm the ALJ's determination that there is no infringement of the asserted claims under the doctrine of equivalents based on (1) the ALJ's finding that substantial differences exist between the accused products and the asserted claims, and (2) the ALJ's application of Johnson & Johnston Assoc. Inc. v. R.E. Services Co., 285 F.3d 1036 (Fed. Cir. 2002) (en banc). The Commission has determined to review the following four issues and to take no position on them: (1) The claim construction of the terms “substantially lying in a single plane” recited in independent claim 3 and “substantially in one plane” recited in independent claims 6 and 12; (2) the priority date of the asserted claims; (3) invalidity of claim 3 under 35 U.S.C. 102(b); and (4) validity of claims 4, 6, 12, and 13 under 35 U.S.C. 102(b). No other issues are being reviewed.

The authority for the Commission's determination is contained in section 337 of the Tariff Act of 1930, as amended (19 U.S.C. 1337), and in sections 210.42-46 and 210.50 of the Commission's Rules of Practice and Procedure (19 C.F.R. 210.42-46 and 210.50).

By order of the Commission.
Issued: September 24, 2010.
Marilyn R. Abbott,
Secretary to the Commission.

[FR Doc. 2010-24566 Filed 9-29-10; 8:45 am]

BILLING CODE 7020-02-P